DEPARTMENT OF THE INTERIOR

Fish and Wildlife Service

Notice of Availability of the Draft Comprehensive Conservation Plan and Environmental Assessment for the Chesapeake Marshlands National Wildlife Refuge Complex

AGENCY: U.S. Fish and Wildlife Service, Department of the Interior.

ACTION: Notice of availability.

SUMMARY: The U.S. Fish and Wildlife Service (Service) announces that the Draft Comprehensive Conservation Plan (CCP) and Environmental Assessment (EA) for the Chesapeake Marshlands National Wildlife Refuge (NWR) Complex are now available for public review and comment. The CCP identifies the purposes for which the refuges in the refuge complex were established, and the roles they will play in fulfilling the mission of the Service and the mission and goals of the National Wildlife Refuge System (NWRS). The EA identifies three alternatives for managing the refuge complex, and discusses how each of them will affect its physical, archaeological, historical, and socioeconomic environments.

The draft states the desired future conditions for habitat, wildlife, people, and facilities on the refuge complex; ensures that the management of the refuge complex reflects the mission, goals, mandates, and policies of the NWRS; ensures that its present and future wildlife-dependent recreational uses are compatible with the purposes for which each of its refuges was established; provides long-term continuity in its management direction; provides a basis for developing its refuge budgets; outlines a plan for conserving habitat and identifies land for future protection; and, provides an understanding of its proposed management to refuge neighbors, visitors, and local officials (see SUPPLEMENTARY INFORMATION below).

We will develop the final CCP for the refuge complex after carefully reviewing all of the comments we receive on its draft. For details on how to submit your comments, see DATES and ADDRESSES below.

DATES: We must receive your comments on or before July 5, 2005.

ADDRESSES: You may obtain a copy of the draft in print or on compact disc by writing or visiting the Chesapeake Marshlands NWR Complex, 2145 Key Wallace Drive, Cambridge, Maryland, 21613-9536. You may also obtain an electronic copy from the http://library.fws.gov/ccps.htm Web site at the National Conservation Training Center Library.

We cordially invite you to comment in person at our public meetings soon to be held in Cambridge, Salisbury, and Crisfield, Maryland. As soon as we have scheduled them, we will publish their dates and addresses in the media.

You can comment by writing to the refuge complex at the address above or to the attention of Gib Chase, Senior Refuge Planner/Biologist, U.S. Fish and Wildlife Service, NWRS, Division of Conservation Planning and Policy, 300 Westgate Center Drive, Hadley, Massachusetts 01035-9589.

If you prefer to comment by electronic mail, please use the words “Chesapeake Marshlands” in its subject line, and address it to northeastplanning@fws.gov (no terminal period). Our e-mail security program may strip attachments or graphics from your message. Please insert your comments as plain text in the body of your message; otherwise, they may be lost.

FOR FURTHER INFORMATION CONTACT: Gib Chase at 413-253-8525, or Glenn Carowan at 410-228-2692, extension 101.

SUPPLEMENTARY INFORMATION: The National Wildlife Refuge System Improvement Act of 1997, which amends the National Wildlife Refuge System Administration Act of 1966, requires the Service to develop a CCP for each national wildlife refuge. Our purpose in developing a CCP is to provide each refuge manager broad management direction over a 15-year period for achieving refuge purposes and contributing to the mission of the NWRS in ways that are consistent with the sound principles of fish, wildlife, plant and habitat management and conservation, Federal laws, and Service policies. A CCP also identifies wildlife-dependent recreational opportunities available to the public, especially the “Big 6” of the Improvement Act: Hunting, fishing, wildlife observation and photography, and environmental education and interpretation. The National Environmental Policy Act of 1969 requires that we prepare an EA for this plan and gather public input during our planning.

What refuges compose the refuge complex?

On December 3, 1931, the Migratory Bird Conservation Commission authorized the establishment of the first refuge in Region 5, the Blackwater Migratory Bird Refuge. We acquired its first parcel of land in 1933, and added tracts in 1942 and 1945. We acquired the Susquehanna NWR in 1940, and purchased Martin NWR in a two-step process in 1954 and 1955. In the 1990s, we added Barren Island, Watts Island and Bishops Head. The refuge complex now comprises the Blackwater, Eastern Neck NWRs, and the Chesapeake Island Unit, consisting of Martin and Susquehanna NWRs, and the Barren Island, Watts Island, Spring Island, and Bishops Head Divisions. This draft treats all of those units except the Eastern Neck NWR. We will draft a CCP for that refuge later.

What major issues or concerns did the public identify during the planning process?

During our public scoping process, the public identified four major concerns listed below, which we considered as we developed our alternatives and evaluated their environmental impacts.

• Potential effects of an expanding human population and changing demographics on Service trust resources from urbanization, vessel traffic and waterborne activities on the Blackwater and Nanticoke rivers, and changing public attitudes and demands;

• Potential effects of refuge expansion and land acquisition;

• Potential effects of habitat changes: The loss of wetlands or marshes; the loss of islands to erosion; the degradation of water quality; the loss and degradation of riparian buffer; and the fragmentation of forest through the lack of management for health and good species composition and;

• Potential effects on populations of flora and fauna by injurious, exotic, or invasive species; the lack of scientific data; and the lack of management for rare, threatened, or endangered species and waterfowl.

What are the important problems affecting fish and wildlife?

The most serious impacts on the refuge complex and the Chesapeake Bay surrounding it arise from the fragmentation of habitats by urbanization, timbering, and agriculture; the lack of forest management; the erosion of Bay islands; the loss and degradation of wetlands and emergent and submergent aquatic vegetation; the proliferation of injurious, invasive, or exotic species; the lack of scientific data on wildlife populations, habitats, and the effectiveness of management actions; and the inadequacy of the refuge complex land base for ensuring its long-term health and ecological integrity and the diversity of Federal trust species.

How will our preferred management actions benefit fish, wildlife, and people?

We believe that our preferred management Alternative B, Conservation Biology for Diversity of Trust Species, best fulfills our statutory mission, responsibilities, and refuge purposes, while considering economic, environmental, technical and other factors. It proposes to increase protection for more than 270 species of rare, threatened, or endangered species; to significantly contribute to delisting the Delmarva fox squirrel from endangered species status; to provide habitat necessary to sustain 10 percent of Maryland's wintering Atlantic population of Canada geese, lesser snow geese, and dabbling ducks; to restore 10,000 acres of emergent marsh to 1933 conditions; to provide high quality forest habitat for 22 species of globally significant forest interior dwelling species of migratory birds; to control or eradicate injurious, invasive, and exotic species; to increase waterfowl and songbird utilization and production; to enhance habitat and improve resident populations of waterfowl; to restore wetlands and hydrology; to expand opportunities for research; to provide additional, wildlife-dependent recreation, particularly the Big 6 mentioned above; to improve significant facilities and add staff; to protect additional, adjoining land by easement, agreement, or fee title acquisition; to restore Atlantic white cedar forest; and to improve public understanding of the dynamics of the Chesapeake Bay ecosystem and the interactions among all its populations.

How do our draft management alternatives differ?

Alternative A, Species-specific Management (No Action Alternative), represents traditional, single-species management. It focuses on providing for the habitat needs of key wildlife trust species and groups of species. It proposes to provide habitat for wintering and nesting waterfowl, for nesting colonial waterbirds, for endangered species such as the Delmarva fox squirrel, and for species of special emphasis such as Canada geese and lesser snow geese, wintering dabbling ducks, nesting black ducks, wood ducks, tundra swans, ospreys, bald eagles, peregrine falcons, and colonial bird species such as great blue herons, great egrets, least terns, and black skimmers. It proposes generally to follow the goals, objectives, and strategies of the Station Management Plan of 1991.

Alternative B, Conservation Biology for Trust Species Diversity (our Preferred Alternative), represents adaptive management based on the results of scientific survey and monitoring programs. It focuses on restoring, enhancing, and maintaining ecological processes and natural biological communities and biodiversity. It emphasizes managing the refuge complex for the benefit of all migratory bird species; maintaining and recovering endangered or threatened species; restoring submerged aquatic vegetation and wetlands; reducing or eliminating invasive plant and animal species; and adding research and inventories, including butterflies, reptiles, amphibians and fish.

Our preferred alternative also proposes to expand the boundary of Blackwater NWR, primarily through partnerships and easements, in two areas: 15,300 acres surrounding the refuge; and 16,000 acres east of the refuge along the Nanticoke River. All of that acreage contains low-lying forest and marsh habitats.

Finally, our preferred alternative improves our ability to provide opportunities for compatible, wildlife-dependent recreation, by proposing a new, accessible fishing pier and parking area at Key Wallace Bridge, new hiking and canoe trails, a canoe access ramp and wetland observation deck; and, by rebuilding the wildlife observation tower, remodeling and expanding the visitor center, updating the exhibits at the center, enhancing signage, providing new hunting opportunities (turkeys, resident Canada geese, and waterfowl), and providing many more outreach and environmental education programs.

Alternative C, Maximum Public Use with No Habitat Management, represents reduced management of wildlife and resources, but the maximum compatible recreational use of the refuge complex: All of the use proposed in alternative B; plus, expanding the hours of guided tours, offering more education programs, constructing more trails, piers, and kiosks, and opening more islands to bank fishing. However, its much-reduced scope of wildlife and resource management would address only those mandates by Federal law and executive directive, with no habitat restoration or manipulation, only intervention to avert catastrophic emergencies. It would not address the rise in sea level, impacts on water quality, or other known or suspected impacts. We would burn prescribed fires periodically, but only as a safety precaution to reduce fuel load. This alternative would not counteract natural forces or human activities that may impact the ecological communities, habitats, and species of the refuge complex.

Please send us your comments in the manner described above, or join us at our public meetings soon to be scheduled in Cambridge, Salisbury, and Crisfield, Maryland.

Dated: February 18, 2005.
Richard O. Bennett,
Acting Regional Director, U.S. Fish and Wildlife Service, Hadley, Massachusetts 01035-9589.

[FR Doc. 05-8763 Filed 5-2-05; 8:45 am]

BILLING CODE 4310-55-P